ENVIRONMENTAL PROTECTION AGENCY

[FRL-9978-52-Region 9]

Public Water System Supervision Program; Supplemental Primary Enforcement Responsibility Approval for the Navajo Nation

Corrections

In notice document 2018-11320 appearing on pages 24990-24992 in the issue of May 31, 2018, make the following corrections:

1. On page 24991, in the first column, under the DATES heading, beginning in the second line, “June 25, 2018” should read “July 2, 2018”.

2. On the same page, in the third column, in the 42nd line, “June 25, 2018” should read “July 2, 2018”.

3. On the same page, in the same column, in the 48th line, “June 25, 2018” should read “July 2, 2018”.

4. On page 24992, in the first column, beginning in the third line, “June 25, 2018” should read “July 2, 2018”.

[FR Doc. C1-2018-11320 Filed 6-5-18; 8:45 am]

BILLING CODE 1301-00-D